DEPARTMENT OF ENERGY

Federal Energy Regulatory Commission

[Docket Nos. EL00-95-000 and EL00-98-000]

San Diego Gas & Electric Company, Complainant, v. Sellers of Energy and Ancillary Services Into Markets Operated by the California Independent System Operator and the California Power Exchange, Respondents; Investigation of Practices of the California Independent System Operator and the California Power Exchange; Notice Granting Extension of Time

August 26, 2005.

1. On August 25, 2005, IDACORP Energy L.P. (IDACORP), on behalf of “a substantial number” of participants attending the August 25, 2005 Technical Conference ¹ held in the above-captioned proceeding, filed a Joint Motion for Adjustment to Filing Date for Cost Filings (Motion). The August 8, 2005 Order on Cost Recovery, Revising Procedural Schedule for Refunds, and Establishing Technical Conference ² requires cost filings to be filed “no later than September 10, 2005.” ³ Movants request an extension of the cost filing deadline until September 14, 2005, to take into account the guidance provided by Staff at the Technical Conference. Movants further request action on the Motion before receipt of any answer to the motion, given the short time frame for preparing cost filing submissions, and the “unexceptional nature of this request.” Motion at 2.

¹ IDACORP states that parties joining in or not opposing this request include: Avista Energy, Inc., BP Energy Company, California PX, Constellation Energy Commodities Group, Inc., Coral Power, L.L.C., IDACORP Energy, L.P., NEGT Energy Trading-Power, L.P., Portland General Electric Company, Powerex Corp., Public Service Company of New Mexico, Puget Sound Energy, Inc., Sempra Energy Trading Corp., TransAlta Energy Marketing (CA) Inc., TransAlta Energy Marketing (US) Inc., Golden Energy Services, APX, and AEPCO (collectively, “Movants”). Motion at 1. IDACORP states that it makes no representations on behalf of the California Parties, but is authorized by all other parties attending the August 25, 2005 Technical Conference to request this extension.

² San Diego Gas & Electric Co. v. Sellers of Energy and Ancillary Services, 112 FERC ¶ 61,176 (2005).

³ Id. at Ordering Paragraph (D).

2. Upon consideration, notice is hereby given that an extension of time to submit cost filings to the Commission is granted to and including September 14, 2005, as requested.

Magalie R. Salas,
Secretary.

[FR Doc. E5-4813 Filed 9-1-05; 8:45 am]

BILLING CODE 6717-01-P